DEPARTMENT OF COMMERCE

National Oceanic and Atmospheric Administration

RIN 0648-XC862

Marine Mammals; File No. 18171

AGENCY: National Marine Fisheries Service (NMFS), National Oceanic and Atmospheric Administration (NOAA), Commerce.

ACTION: Notice; receipt of application.

SUMMARY: Notice is hereby given that Wessley Merten, Marine Sciences Department, University of Puerto Rico, Mayagüez Campus, PO Box 9000, Mayagüez, PR 00682, has applied in due form for a permit to conduct commercial or educational photography of bottlenose dolphins (Tursiops truncates), spinner dolphins (Stenella longirostris), striped dolphins (Stenella coeruleoalba), False killer whales (Pseudorca crassidens), and killer whales (Orcinus orca) in waters off Puerto Rico.

DATES: Written, telefaxed, or email comments must be received on or before October 15, 2013.

ADDRESSES: These documents are available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Carrie Hubard, (301) 427-8401.

SUPPLEMENTARY INFORMATION: The subject permit is requested under the authority of the Marine Mammal Protection Act of 1972, as amended (MMPA; 16 U.S.C. 1361 et seq.), and the regulations governing the taking and importing of marine mammals (50 CFR part 216). Section 104(c)(6) provides for photography for educational or commercial purposes involving non-endangered and non-threatened marine mammals in the wild.

Wessley Merten requests a two-year photography permit to film and photograph bottlenose dolphins (Tursiops truncates), spinner dolphins (Stenella longirostris), striped dolphins (Stenella coeruleoalba), false killer whales (Pseudorca crassidens), and killer whales (Orcinus orca) in waters off Puerto Rico, specifically, out to 40 miles. Filming would be conducted underwater and from a small boat. Filming would occur throughout the year and be completed by July 2015. Footage would be used in a documentary of offshore sport fishing in Puerto Rico, endorsed by the Puerto Rico Sea Grant Program, and which would be distributed to schools and the public throughout Puerto Rico. In addition, footage would be used in a documentary about Puerto Rico's marine mammal and marine mammal program.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 6, 2013.
P. Michael Payne,
Chief, Permits and Conservation Division, Office of Protected Resources, National Marine Fisheries Service.

[FR Doc. 2013-22186 Filed 9-11-13; 8:45 am]

BILLING CODE 3510-22-P